ENVIRONMENTAL PROTECTION AGENCY

[Docket ID Numbers EPA-HQ-OECA-2006-0705-07, 0709, 0711-13, 0718-26, 0736-38, 0749-52, 0770 and 0775-78; FRL-8228-3]

Agency Information Collection Activities: Request for Comments on Twenty-Eight Proposed Information Collection Requests (ICRs)

AGENCY: Environmental Protection Agency (EPA).

ACTION: Notice.

SUMMARY: In compliance with the Paperwork Reduction Act (44 U.S.C. 3501 et seq.), this document announces that EPA is planning to submit the following twenty-eight (28) existing, approved, continuing Information Collection Requests (ICRs) to the Office of Management and Budget (OMB) for the purpose of renewing the ICRs. Before submitting the ICRs to OMB for review and approval, EPA is soliciting comments on specific aspects of the information collections as described under SUPPLEMENTARY INFORMATION.

DATES: Comments must be submitted on or before December 4, 2006.

ADDRESSES: Comments may be submitted electronically, by mail, or through hand delivery/courier service. Follow the detailed instructions as provided under SUPPLEMENTARY INFORMATION, section A.

FOR FURTHER INFORMATION CONTACT: The contact individuals for each ICR are listed under SUPPLEMENTARY INFORMATION, section II. C.

SUPPLEMENTARY INFORMATION:

I.A. How Can I Access the Docket and/or Submit Comments?

1. Docket Access Instructions

EPA has established a public docket for the ICRs listed in the SUPPLEMENTARY INFORMATION, section II. B. The docket is available for online viewing at http://www.regulations.gov, or in person viewing at the Enforcement and Compliance Docket and Information Center (ECDIC), in the EPA Docket Center (EPA/DC), EPA West, Room B102, 1301 Constitution Avenue, NW., Washington, DC. The EPA/DC Public Reading Room is open from 8 a.m. to 4:30 p.m., Monday through Friday, excluding legal holidays. The telephone number for the Reading Room is (202) 566-1744, and the telephone number for the Enforcement and Compliance Docket and Information Center (ECDIC) docket is (202) 566-1752.

Use http://www.regulations.gov to obtain a copy of the draft collection of information, submit or view public comments, access the index listing of the contents of the docket, and to access those documents in the public docket that are available electronically. When in the system, select “search,” then key in the docket ID number identified in this document.

2. Instructions for Submitting Comments

Submit your comments by one of the following methods:

1. Electronic Submission: Access http://www.regulations.gov and follow the online instructions for submitting comments.

2. E-mail: docket.oeca@epa.gov

3. Fax: (202) 566-1511

4. Mail: Enforcement and Compliance Docket and Information Center (ECDIC), Environmental Protection Agency, EPA Docket Center (EPA/DC), Mailcode: 2201T, 1200 Pennsylvania Avenue, NW., Washington, DC 20460.

5. Hand Delivery: Enforcement and Compliance Docket and Information Center (ECDIC), Environmental Protection Agency, EPA Docket Center (EPA/DC), EPA West, Room B102, 1301 Constitution Avenue, NW., Washington, DC. The EPA Docket Center is open from 8:30 a.m. to 4:30 p.m., Monday through Friday, excluding legal holidays. Deliveries are only accepted during the Docket Center's normal hours of operation, and special arrangements should be made for deliveries of boxed information.

Direct your comments to the specific docket listed in SUPPLEMENTARY INFORMATION, section II. B, and reference the OMB Control Number for the ICR. It is EPA's policy that all comments received will be included in the public docket without change and may be made available online at http://www.regulations.gov, including any personal information provided, unless the comment includes information claimed to be Confidential Business Information (CBI) or other information whose disclosure is restricted by statute. Do not submit information that you consider to be CBI or otherwise protected through www.regulations.gov or e-mail. The http://www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

B. What information is EPA particularly interested in?

Pursuant to section 3506(c)(2)(A) of the Paperwork Reduction Act (PRA), EPA is soliciting comments and information to enable it to:

(1) Evaluate whether the proposed collections of information are necessary for the proper performance of the functions of the Agency, including whether the information will have practical utility.

(2) Evaluate the accuracy of the Agency's estimates of the burdens of the proposed collections of information.

(3) Enhance the quality, utility, and clarity of the information to be collected.

(4) Minimize the burden of the collections of information on those who are to respond, including through the use of appropriate automated or electronic collection technologies or other forms of information technology, e.g., permitting electronic submission of responses.

C. What should I consider when I prepare my comments for EPA?

You may find the following suggestions helpful for preparing comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

II. ICRs To Be Renewed

A. For All ICRs

The Agency computed the burden for each of the recordkeeping and reporting requirements applicable to the industry for the currently approved ICRs listed in this notice. Where applicable, the Agency identified specific tasks and made assumptions, while being consistent with the concept of the PRA.

Burden means the total time, effort, or financial resources expended by persons to generate, maintain, retain, or disclose or provide information to or for a Federal agency. This includes the time needed to review instructions to; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The listed ICRs address Clean Air Act information collection requirements in standards (i.e., regulations) which have mandatory recordkeeping and reporting requirements. Records collected under the New Source Performance Standards (NSPS) must be retained by the owner or operator for at least two years and the records collected under the National Emission Standards for Hazardous Air Pollutants (NESHAP) must be retained by the owner or operator for at least five years. In general, the required collections consist of emissions data and other information deemed not to be private.

In the absence of such information collection requirements, enforcement personnel would be unable to determine whether the standards are being met on a continuous basis as required by the Clean Air Act.

An Agency may not conduct or sponsor, and a person is not required to respond to, a collection of information, unless the Agency displays a currently valid OMB control number. The OMB control numbers for EPA's regulations under Title 40 of the Code of Federal Regulations are published in the Federal Register, or on the related collection instrument or form. The display of OMB control numbers for certain EPA regulations is consolidated at 40 CFR part 9.

B. What information collection activity or ICR does this apply to?

In compliance with the Paperwork Reduction Act (44 U.S.C. 3501 et seq.), this notice announces that EPA is planning to submit the following twenty-eight existing, approved, continuing Information Collection Requests (ICRs) to the Office of Management and Budget (OMB):

(1) Docket ID Number: EPA-HQ-OECA-2006-0718

Title: NESHAP for the Manufacture of Amino/Phenolic Resins (40 CFR Part 63, Subpart OOO)

ICR Numbers: EPA ICR Number 1869.05, OMB Control Number 2060-0434

ICR Status: This ICR is scheduled to expire on May 31, 2007.

(2) Docket ID Number: EPA-HQ-OECA-2006-0737

Title: NESHAP for Magnetic Tape Manufacturing Operations (40 CFR Part 63, Subpart EE)

ICR Numbers: EPA ICR Number 1678.06, OMB Control Number 2060-0326

ICR Status: This ICR is scheduled to expire on May 31, 2007.

(3) Docket ID Number: EPA-HQ-OECA-2006-0719

Title: NESHAP for Phosphoric Acid Manufacturing and Phosphate Fertilizers Production (40 CFR Part 63, Subparts AA and BB)

ICR Numbers: EPA ICR Number 1790.04, OMB Control Number 2060-0361

ICR Status: This ICR is scheduled to expire on May 31, 2007.

(4) Docket ID Number: EPA-HQ-OECA-2006-0720

Title: NESHAP for Off-Site Waste and Recovery Operations (40 CFR Part 63, Subpart DD)

ICR Numbers: EPA ICR Number 1717.05, OMB Control Number 2060-0313

ICR Status: This ICR is scheduled to expire on May 31, 2007.

(5) Docket ID Number: EPA-HQ-OECA-2006-0751

Title: NESHAP for Flexible Polyurethane Foam Product (40 CFR Part 63, Subpart III)

ICR Numbers: EPA ICR Number 1783.04, OMB Control Number 2060-0357

ICR Status: This ICR is scheduled to expire on June 30, 2007.

(6) Docket ID Number: EPA-HQ-OECA-2006-0712

Title: NSPS for Magnetic Tape Coating Facilities (40 CFR Part 60, Subpart SSS)

ICR Numbers: EPA ICR Number 1135.09, OMB Control Number 2060-0171

ICR Status: This ICR is scheduled to expire on June 30, 2007.

(7) Docket ID Number: EPA-HQ-OECA-2006-0750

Title: NESHAP for Gasoline Distribution Facilities (40 CFR Part 63, Subpart R)

ICR Numbers: EPA ICR Number 1659.06, OMB Control Number 2060-0325

ICR Status: This ICR is scheduled to expire on June 30, 2007.

(8) Docket ID Number: EPA-HQ-OECA-2006-0713

Title: NESHAP for Pharmaceuticals Production (40 CFR Part 63, Subpart GGG)

ICR Numbers: EPA ICR Number 1781.04, OMB Control Number 2060-0358

ICR Status: This ICR is scheduled to expire on June 30, 2007.

(9) Docket ID Number: EPA-HQ-OECA-2006-0776

Title: NESHAP for Stationary Combustion Turbines (40 CFR Part 63, Subpart YYYY)

ICR Numbers: EPA ICR Number 1967.03, OMB Control Number 2060-0540

ICR Status: This ICR is scheduled to expire on June 30, 2007.

(10) Docket ID Number: EPA-HQ-OECA-2006-0738

Title: NESHAP for Metal Can Manufacturing Surface Coating (40 CFR Part 63, Subpart KKKK)

ICR Numbers: EPA ICR Number 2079.03, OMB Control Number 2060-0541.

ICR Status: This ICR is scheduled to expire on June 30, 2007.

(11) Docket ID Number: EPA-HQ-OECA-2006-0721

Title: NESHAP for Mineral Wool Production (40 CFR Part 63, Subpart DDD)

ICR Numbers: EPA ICR Number 1799.04, OMB Control Number 2060-0362

ICR Status: This ICR is scheduled to expire on June 30, 2007.

(12) Docket ID Number: EPA-HQ-OECA-2006-0749

Title: NESHAP Chromium Emissions From Hard and Decorative Chromium Electroplating and Chromium Anodizing Tanks (40 CFR Part 63, Subpart N)

ICR Numbers: EPA ICR Number 1611.06, OMB Control Number 2060-0327

ICR Status: This ICR is scheduled to expire on June 30, 2007.

(13) Docket ID Number: EPA-HQ-OECA-2006-0722

Title: NESHAP for Wood Furniture Manufacturing Operations (40 CFR Part 63, Subpart JJ)

ICR Numbers: EPA ICR Number 1716.05, OMB Control Number 2060-0324

ICR Status: This ICR is scheduled to expire on June 30, 2007.

(14) Docket ID Number: EPA-HQ-OECA-2006-0723

Title: NESHAP for Commercial Ethylene Oxide Sterilization and Fumigation Operations (40 CFR Part 63, Subpart O)

ICR Numbers: EPA ICR Number 1666.07, OMB Control Number 2060-0283

ICR Status: This ICR is scheduled to expire on June 30, 2007.

(15) Docket ID Number: EPA-HQ-OECA-2006-0706

Title: NSPS for Secondary Brass and Bronze Production, Primary Copper Smelters, Primary Zinc Smelters, Primary Lead Smelters, Primary Aluminum Reduction Plants and Ferroalloy Production Facilities (40 CFR Part 60, Subparts M, P, Q, R, S and Z)

ICR Numbers: EPA ICR Number 1604.08, OMB Control Number 2060-0110

ICR Status: This ICR is scheduled to expire on July 31, 2007.

(16) Docket ID Number: EPA-HQ-OECA-2006-0770

Title: NSPS for New Residential Wood Heaters (40 CFR Part 60, Subpart AAA)

ICR Numbers: EPA ICR Number 1176.08, OMB Control Number 2060-0161

ICR Status: This ICR is scheduled to expire on July 31, 2007.

(17) Docket ID Number: EPA-HQ-OECA-2006-0724

Title: NESHAP for Boat Manufacturing (40 CFR Part 63, Subpart VVVV)

ICR Numbers: EPA ICR Number 1966.03, OMB Control Number 2060-0546

ICR Status: This ICR is scheduled to expire on July 31, 2007.

(18) Docket ID Number: EPA-HQ-OECA-2006-0736

Title: NESHAP for Automobile and Light-duty Truck Surface Coating (40 CFR Part 63, Subpart IIII).

ICR Numbers: EPA ICR Number 2045.03, OMB Control Number 2060-0550

ICR Status: This ICR is scheduled to expire on August 31, 2007.

(19) Docket ID Number: EPA-HQ-OECA-2006-0778

Title: NESHAP for Industrial, Commercial, and Institutional Boilers and Process Heaters (40 CFR Part 63, Subpart DDDDD)

ICR Numbers: EPA ICR Number 2028.03, OMB Control Number 2060-0551

ICR Status: This ICR is scheduled to expire on August 31, 2007.

(20) Docket ID Number: EPA-HQ-OECA-2006-0725

Title: NESHAP for Plywood and Composite Products (40 CFR Parts 63, Subparts DDDD and 429)

ICR Numbers: EPA ICR Number 1984.03, OMB Control Number 2060-0552

ICR Status: This ICR is scheduled to expire on August 31, 2007.

(21) Docket ID Number: EPA-HQ-OECA-2006-0775

Title: NSPS for Stationary Gas Turbines (40 CFR Part 60, Subpart GG)

ICR Numbers: EPA ICR Number 1071.09, OMB Control Number 2060-028

ICR Status: This ICR is scheduled to expire on August 31, 2007.

(22) Docket ID Number: EPA-HQ-OECA-2006-0752

Title: NESHAP for Petroleum Refineries, Catalytic Cracking, Reforming and Sulfur Units (40 CFR Part 63, Subpart UUU)

ICR Numbers: EPA ICR Number 1844.02, OMB Control Number 2060-0554

ICR Status: This ICR is scheduled to expire on August 31, 2007.

(23) Docket ID Number: EPA-HQ-OECA-2006-0777

Title: NESHAP for Stationary Reciprocating Internal Combustion Engines (40 CFR Part 63, Subpart ZZZZ)

ICR Numbers: EPA ICR Number 1975.03, OMB Control Number 2060-0548

ICR Status: This ICR is scheduled to expire on August 31, 2007.

(24) Docket ID Number: EPA-HQ-OECA-2006-0711

Title: NSPS for Sewage Sludge Treatment Plants (40 CFR Part 60, Subpart O)

ICR Numbers: EPA ICR Number 1063.10, OMB Control Number 2060-0035

ICR Status: This ICR is scheduled to expire on September 30, 2007.

(25) Docket ID Number: EPA-HQ-OECA-2006-0705

Title: Air Emissions Standards for Tanks, Surface Impoundments and Containers (40 CFR Part 264, Subpart CC and 40 CFR Part 265, Subpart 265)

ICR Numbers: EPA ICR Number 1593.07, OMB Control Number 2060-0318

ICR Status: This ICR is scheduled to expire on September 30, 2007.

(26) Docket ID Number: EPA-HQ-OECA-2006-0726

Title: NESHAP for Aerospace Manufacturing and Rework (40 CFR Part 63, Subpart GG)

ICR Numbers: EPA ICR Number 1687.07, OMB Control Number 2060-0314

ICR Status: This ICR is scheduled to expire on September 30, 2007.

(27) Docket ID Number: EPA-HQ-OECA-2006-0709

Title: NSPS for Incinerators (40 CFR Part 60, Subpart E)

ICR Numbers: EPA ICR Number 1058.09, OMB Control Number 2060-0040

ICR Status: This ICR is scheduled to expire on September 30, 2007.

(28) Docket ID Number: EPA-HQ-OECA-2006-0707

Title: NSPS for the Graphic Arts Industry (40 CFR Part 60, Subpart QQ)

ICR Numbers: EPA ICR Number 0657.09, OMB Control Number 2060-0105

ICR Status: This ICR is scheduled to expire on September 30, 2007.

C. Contact Individuals for ICRs

(1) NESHAP for the Manufacture of Amino/Phenolic Resins (40 CFR Part 63, Subpart OOO); Learia Williams of the Office of Compliance at (202) 564-4113 or via e-mail to: williams.learia@epa.gov; EPA ICR Number 1869.05; OMB Control Number 2060-0434; expiration date May 31, 2007.

(2) NESHAP for Magnetic Tape Manufacturing Operations (40 CFR Part 63, Subpart EE); Len Lazarus of the Office of Compliance at (202) 564-6369 or via e-mail to: lazarus.leonard@epa.gov; EPA ICR Number 1678.06; OMB Control Number 2060-0326; expiration date May 31, 2007.

(3) NESHAP for Phosphoric Acid Manufacturing and Phosphate Fertilizers Production (40 CFR Part 63, Subparts AA and BB); Learia Williams of the Office of Compliance at (202) 564-4113 or via e-mail to: williams.learia@epa.gov; EPA ICR Number 1790.04; OMB Control Number 2060-0361; expiration date May 31, 2007.

(4) NESHAP for Off-Site Waste and Recovery Operations (40 CFR Part 63, Subpart DD); Learia Williams of the Office of Compliance at (202) 564-4113 or via e-mail to: williams.learia@epa.gov; EPA ICR Number 1717.05; OMB Control Number 2060-0313; expiration date May 31, 2007.

(5) NESHAP for Flexible Polyurethane Foam Product (40 CFR Part 63, Subpart III); contact María Malavé in the Office of Compliance at (202) 564-7027 or via e-mail to: malave.maria@epa.gov; EPA ICR Number 1783.04, OMB Control Number 2060-0357; expiration date June 30, 2007.

(6) NSPS for Magnetic Tape Coating Facilities (40 CFR Part 60, Subpart SSS); Robert C. Marshall, Jr. of the Office of Compliance at (202) 564-7021 or via e-mail to: marshall.robert@epa.gov; EPA ICR Number 1135.09; OMB Control Number 2060-0171; expiration date June 30, 2007.

(7) NESHAP for Gasoline Distribution Facilities (40 CFR Part 63, Subpart R); contact María Malavé in the Office of Compliance at (202) 564-7027 or via e-mail to: malave.maria@epa.gov; EPA ICR Number 1659.06, OMB Control Number 2060-0325; expiration date June 30, 2007.

(8) NESHAP for Pharmaceuticals Production (40 CFR Part 63, Subpart GGG); Marcia B. Mia of the Office of Compliance at 202-564-7042 (phone) or via e-mail to: mia.marcia@epa.gov; EPA ICR Number 1781.04; OMB Control Number 2060-0358; expiration date June 30, 2007.

(9) NESHAP for Stationary Combustion Turbines (40 CFR Part 63, Subpart YYYY); Gregory Fried of the Office of Compliance at (202) 564-7016 or via e-mail to: fried.gregory@epa.gov; EPA ICR Number 1967.03; OMB Control Number 2060-0540; expiration date June 30, 2007.

(10) NESHAP for Metal Can Manufacturing Surface Coating (40 CFR Part 63, Subpart KKKK); Len Lazarus of the Office of Compliance at (202) 564-6369 or via e-mail to: lazarus.leonard@epa.gov; EPA ICR Number 2079.03; OMB Control Number 2060-0541; expiration date June 30, 2007.

(11) NESHAP for Mineral Wool Production (40 CFR Part 63, Subpart DDD); Learia Williams of the Office of Compliance at (202) 564-4113 or via e-mail to: williams.learia@epa.gov; EPA ICR Number 1799.04; OMB Control Number 2060-0362; expiration date June 30, 2007.

(12) NESHAP Chromium Emissions From Hard and Decorative Chromium Electroplating and Chromium Anodizing Tanks (40 CFR Part 63, Subpart N); contact María Malavé in the Office of Compliance at (202) 564-7027 or via e-mail to: malave.maria@epa.gov; EPA ICR Number 1611.06; OMB Control Number 2060-0327; expiration date June 30, 2007.

(13) NESHAP for Wood Furniture Manufacturing Operations (40 CFR Part 63, Subpart JJ); Learia Williams of the Office of Compliance at (202) 564-4113 or via e-mail to: williams.learia@epa.gov; EPA ICR Number 1716.05; OMB Control Number 2060-0324; expiration date June 30, 2007.

(14) NESHAP for Commercial Ethylene Oxide Sterilization and Fumigation Operations (40 CFR Part 63, Subpart O); Learia Williams of the Office of Compliance at (202) 564-4113 or via e-mail to: williams.learia@epa.gov; EPA ICR Number 1666.07; OMB Control Number 2060-0283; expiration date June 30, 2007.

(15) NSPS for Secondary Brass and Bronze Production, Primary Copper Smelters, Primary Zinc Smelters, Primary Lead Smelters, Primary Aluminum Reduction Plants and Ferroalloy Production Facilities (40 CFR Part 60, Subparts M, P, Q, R, S and Z); Robert C. Marshall, Jr. of the Office of Compliance at (202) 564-7021 or via e-mail to: marshall.robert@epa.gov; EPA ICR Number 1604.08; OMB Control Number 2060-0110; expiration date July 31, 2007.

(16) NSPS for New Residential Wood Heaters (40 CFR Part 60, Subpart AAA); John DuPree of the Office of Compliance at (202) 564-5950, or via e-mail to: Dupree.john@epa.gov; EPA ICR Number 1176.08; OMB Control Number 2060-0161; expiration date July 31, 2007.

(17) NESHAP for Boat Manufacturing (40 CFR Part 63, Subpart VVVV); Learia Williams of the Office of Compliance at (202) 564-4113 or via e-mail to: williams.learia@epa.gov; EPA ICR Number 1966.03; OMB Control Number 2060-0546; expiration date July 31, 2007.

(18) NESHAP for Automobile and Light-duty Truck Surface Coating (40 CFR Part 63, Subpart IIII); Len Lazarus of the Office of Compliance at (202) 564-6369 or via e-mail to: lazarus.leonard@epa.gov; EPA ICR Number 2045.03; OMB Control Number 2060-0550; expiration date August 31, 2007.

(19) NESHAP for Industrial, Commercial, and Institutional Boilers and Process Heaters (40 CFR Part 63, Subpart DDDDD); Gregory Fried of the Office of Compliance at (202) 564-7016 or via e-mail to: fried.gregory@epa.gov; EPA ICR Number 2028.03; OMB Control Number 2060-0551; expiration date August 31, 2007.

(20) NESHAP for Plywood and Composite Products (40 CFR Part 63, Subparts DDDD and 429); Learia Williams of the Office of Compliance at (202) 564-4113 or via e-mail to: williams.learia@epa.gov; EPA ICR Number 1984.03; OMB Control Number 2060-0552; expiration date August 31, 2007.

(21) NSPS for Stationary Gas Turbines (40 CFR Part 60, Subpart GG); Gregory Fried of the Office of Compliance at (202) 564-7016 or via e-mail to: fried.gregory@epa.gov; EPA ICR Number 1071.09; OMB Control Number 2060-0028; expiration date August 31, 2007.

(22) NESHAP for Petroleum Refineries, Catalytic Cracking, Reforming and Sulfur Units (40 CFR Part 63, Subpart UUU); contact María Malavé in the Office of Compliance at (202) 564-7027 or via e-mail to: malave.maria@epa.gov; EPA ICR Number 1844.02, OMB Control Number 2060-0554; expiration date August 31, 2007.

(23) NESHAP for Stationary Reciprocating Internal Combustion Engines (40 CFR Part 63, Subpart ZZZZ); Gregory Fried of the Office of Compliance at (202) 564-7016 or via e-mail to: fried.gregory@epa.gov; EPA ICR Number 1975.03; OMB Control Number 2060-0548; expiration date August 31, 2007.

(24) NSPS for Sewage Sludge Treatment Plants (40 CFR Part 60, Subpart O); Robert C. Marshall, Jr. of the Office of Compliance at (202) 564-7021 or via e-mail to: marshall.robert@epa.gov; EPA ICR Number 1063.10; OMB Control Number 2060-0035; expiration date September 31, 2007.

(25) Air Emissions Standards for Tanks, Surface Impoundments and Containers (40 CFR Part 264, Subpart CC and 40 CFR Part 265, Subpart 265); Robert C. Marshall, Jr. of the Office of Compliance at (202) 564-7021 or via e-mail to: marshall.robert@epa.gov; EPA ICR Number 1593.07; OMB Control Number 2060-0318; expiration date September 31, 2007.

(26) NESHAP for Aerospace Manufacturing and Rework (40 CFR Part 63, Subpart GG); Learia Williams of the Office of Compliance at (202) 564-4113 or via e-mail to: williams.learia@epa.gov; EPA ICR Number 1687.07; OMB Control Number 2060-0314; expiration date September 30, 2007.

(27) NSPS for Incinerators (40 CFR Part 60, Subpart E); Robert C. Marshall, Jr. of the Office of Compliance at (202) 564-7021 or via e-mail to: marshall.robert@epa.gov; EPA ICR Number 1058.09; OMB Control Number 2060-0040; expiration date September 31, 2007.

(28) NSPS for the Graphic Arts Industry (40 CFR Part 60, Subpart QQ); Robert C. Marshall, Jr. of the Office of Compliance at (202) 564-7021 or via e-mail to: marshall.robert@epa.gov; EPA ICR Number 0657.09; OMB Control Number 2060-0105; expiration date September 31, 2007.

D. Information for Individual ICRs

(1) NESHAP for the Manufacture of Amino/Phenolic Resins (40 CFR Part 63, Subpart OOO); Docket ID Number EPA-HQ-OECA-2006-0718, EPA ICR Number 1869.05; OMB Control Number 2060-0434; expiration date May 31, 2007.

Affected Entities: Entities potentially affected by this action are manufacturers of amino/phenolic resins.

Abstract: The National Emission Standards for Hazardous Air Pollutants (NESHAP) for the Manufacture of Amino/Phenolic Resins (40 CFR Part 63, Subpart OOO) were proposed on December 14, 1998 and promulgated on January 20, 2000. The affected entities are subject to the General Provisions of the NESHAP at 40 CFR part 63, subpart A and any changes or additions to the General Provisions specified at 40 CFR part 63, subpart OOO.

Burden Statement: The following data has been extracted from the currently active ICR. The annual public reporting and recordkeeping burden for this collection of information is estimated to average 293 hours per response.

Respondents/Affected Entities: Manufacturers of amino/phenolic resins.

Estimated Number of Respondents: 40.

Frequency of Response: Initially, quarterly, semiannually.

Estimated Total Annual Hour Burden: 24,044.

Estimated Total Annual Cost: $16,000, which is comprised of no annualized capital/startup costs and O&M costs of $16,000.

(2) NESHAP for Magnetic Tape Manufacturing Operations (40 CFR Part 63, Subpart EE); EPA-OECA-2006-0336; EPA ICR Number 1678.06; OMB Control Number 2060-0326; expiration date May 31, 2007.

Affected Entities: Entities potentially affected by this action are magnetic tape manufacturing operations.

Abstract: The National Emission Standards for Hazardous Air Pollutants (NESHAP) for Magnetic Tape Manufacturing Operations were promulgated on December 15, 1994. The affected entities are subject to the General Provisions of the NESHAP at 40 CFR part 63, subpart A and any changes, or additions to the General Provisions specified at 40 CFR part 63, Subpart EE.

Burden Statement: The following data has been extracted from the currently active ICR. The annual public reporting and recordkeeping burden for this collection of information is estimated to average 200 hours per response.

Respondents/Affected Entities: Magnetic tape manufacturing operations.

Estimated Number of Respondents: 6.

Frequency of Response: Initially, on-occasion and semiannually.

Estimated Total Annual Hour Burden: 3,395.

Estimated Total Annual Cost: $47,000, includes $11,000 annualized capital/startup and $36,000 annualized O&M costs.

(3) NESHAP for Phosphoric Acid Manufacturing and Phosphate Fertilizers Production (40 CFR Part 63, Subparts AA and BB); Docket ID Number EPA-HQ-OECA-2006-0719, EPA ICR Number 1790.04; OMB Control Number 2060-0361; expiration date May 31, 2007.

Affected Entities: Entities potentially affected by this action are phosphoric acid manufacturers and phosphate fertilizer production plants.

Abstract: The National Emission Standards for Hazardous Air Pollutants (NESHAP) for Phosphoric Acid Manufacture and Phosphate Fertilizers (40 CFR Part 63, Subpart AA & BB) were promulgated on December 29, 1992 and amended on December 17, 2001. The affected entities are subject to the General Provisions of the NESHAP at 40 CFR part 63, subpart A and any changes or additions to the General Provisions specified at 40 CFR part 63, subparts AA and BB.

Burden Statement: The following data has been extracted from the currently active ICR. The annual public reporting and recordkeeping burden for this collection of information is estimated to average 18 hours per response.

Respondents/Affected Entities: Phosphoric Acid Manufacturers and Phosphate Fertilizer Production Plants.

Estimated Number of Respondents: 12.

Frequency of Response: Initially, quarterly, semiannually and annually.

Estimated Total Annual Hour Burden: 1,526.

Estimated Total Annual Cost: $11,000, which is comprised of no annualized capital/startup costs and O&M costs of $11,000.

(4) NESHAP for Off-Site Waste and Recovery Operations (40 CFR Part 63, Subpart DD); Docket ID Number EPA-HQ-OECA-2006-0720, EPA ICR Number 1717.05; OMB Control Number 2060-0313; expiration date May 31, 2007.

Affected Entities: Entities potentially affected by this action are off-site waste and recovery operations.

Abstract: The National Emission Standards for Hazardous Air Pollutants (NESHAP) for Off-Site Waste and Recovery Operations (40 CFR Part 63, Subpart DD) were proposed on October 13, 1994 and promulgated on July 1, 1996. The affected entities are subject to the General Provisions of the NESHAP at 40 CFR part 63, subpart A and any changes or additions to the General Provisions specified at 40 CFR part 63, subpart DD.

Burden Statement: The following data has been extracted from the currently active ICR. The annual public reporting and recordkeeping burden for this collection of information is estimated to average 218 hours per response.

Respondents/Affected Entities: Off-site waste and recovery operations.

Estimated Number of Respondents: 236.

Frequency of Response: On-occasion and semiannually.

Estimated Total Annual Hour Burden: 154,306.

Estimated Total Annual Cost: $5,000, which is comprised of no annualized capital/startup costs and O&M costs of $5,000.

(5) NESHAP for Flexible Polyurethane Foam Product (40 CFR Part 63, Subpart III), Docket ID Number EPA-HQ-OECA-2006-0751, EPA ICR Number 1783.04, OMB Control Number 2060-0357, expiration date June 30, 2007.

Affected Entities: Entities potentially affected by this action are flexible polyurethane foam production facilities.

Abstract: The National Emission Standards for Hazardous Air Pollutants (NESHAP), for the regulations published at 40 CFR part 63, subpart III, were proposed on December 27, 1996 and promulgated on October 7, 1998. The affected entities are subject to the General Provisions of the NESHAP at 40 CFR part 63, subpart A and any changes, or additions to the General Provisions specified at 40 CFR part 63, subpart III.

Burden Statement: The following data has been extracted from the currently active ICR. The annual public reporting and recordkeeping burden for this collection of information is estimated to average 43 hours per response.

Respondents/Affected Entities: Flexible polyurethane foam production facilities.

Estimated Number of Respondents: 132.

Frequency of Response: Initially, semiannually and annually.

Estimated Total Annual Hour Burden: 9,047 hours.

Estimated Total Annual Cost: There are no capital/startup costs and operation or O&M costs associated with this ICR.

(6) NSPS for Magnetic Tape Coating Facilities (40 CFR Part 60, Subpart SSS); Docket ID Number EPA-HQ-OECA-2006-0712; EPA ICR Number 1135.09; OMB Control Number 2060-0171; expiration date June 30, 2007.

Affected Entities: Entities potentially affected by this action are magnetic tape coating facilities.

Abstract: The New Source Performance Standards (NSPS) for XYZ industry were promulgated on October 3, 1988. The affected entities are subject to the General Provisions of NSPS at 40 CFR part 60, subpart A and any changes, or additions to the General Provisions specified at 40 CFR part 60, subpart SSS.

Burden Statement: The following data has been extracted from the currently active ICR. The annual public reporting and recordkeeping burden for this collection of information is estimated to average 88 hours per response.

Respondents/Affected Entities: Magnetic Tape Coating Facilities.

Estimated Number of Respondents: 6.

Frequency of Response: Initially, on-occasion, quarterly and semiannually.

Estimated Total Annual Hour Burden: 2,017.

Estimated Total Annual Cost: $87,000 which is comprised of annualized capital/startup costs of $34,000 and O&M costs of $53,000.

(7) NESHAP for Gasoline Distribution Facilities (40 CFR Part 63, Subpart R), Docket ID Number EPA-HQ-OECA-2006-0750, EPA ICR Number 1659.06, OMB Control Number 2060-0325, expiration date June 30, 2007.

Affected Entities: Entities potentially affected by this action are gasoline distribution facilities.

Abstract: The National Emission Standards for Hazardous Air Pollutants (NESHAP) for Gasoline Distribution Facilities 40 CFR part 63, subpart R, were promulgated on December 14, 1994 (59 FR 64318). The affected entities are subject to the General Provisions of NESHAP at 40 CFR part 63, subpart A and any changes, or additions to the General Provisions specified at 40 CFR part 63, subpart R.

Burden Statement: The following data has been extracted from the currently active ICR. The annual public reporting and recordkeeping burden for this collection of information is estimated to average 62 hours per response.

Respondents/Affected Entities: Bulk gasoline terminals with through-puts greater than 75,700 liters/day and pipeline breakout stations/gasoline loading racks.

Estimated Number of Respondents: 263.

Frequency of Response: On-occasion, semiannually and annually.

Estimated Total Annual Hour Burden: 32,575 hours.

Estimated Total Annual Cost: $851,000 which is comprised of O&M costs only. There are no annualized capital/startup costs associated with this ICR.

(8) NESHAP for Pharmaceuticals Production (40 CFR Part 63, Subpart GGG); Docket ID Number EPA-HQ-OECA-2006-0713; EPA ICR Number 1781.04; OMB Control Number 2060-0358; expiration date June 30, 2007.

Affected Entities: Entities potentially affected by this action are pharmaceutical manufacturers.

Abstract: The National Emission Standards for Hazardous Air Pollutants (NESHAP) for Pharmaceuticals Production was proposed on April 2, 1997, and promulgated on September 21, 1998. The affected entities are subject to the General Provisions of NESHAP at 40 CFR part 63, subpart A and any changes, or additions to the General Provisions specified at 40 CFR part 63, subpart GGG.

Burden Statement: The following data has been extracted from the currently active ICR. The annual public reporting and recordkeeping burden for this collection of information is estimated to average 255 hours per response.

Respondents/Affected Entities: Pharmaceutical Manufacturers.

Estimated Number of Respondents: 101.

Frequency of Response: On-occasion, quarterly and semiannually.

Estimated Total Annual Hour Burden: 158,179.

Estimated Total Annual Cost: $9,000, which is comprised of annualized capital/startup costs of $5,000 and O&M costs of $4,000.

(9) NESHAP for Stationary Combustion Turbines (40 CFR Part 63, Subpart YYYY), Docket ID Number EPA-HQ-OECA-2006-0776, EPA ICR Number 1967.03, OMB Control Number 2060-0540, expiration date June 30, 2007.

Affected Entities: Entities potentially affected by this action are the owners or operators of stationary gas turbines.

Abstract: The National Emission Standards for Hazardous Air Pollutants (NESHAP) for stationary gas turbines were promulgated March 5, 2004. The affected entities are subject to the General Provisions of NESHAP at 40 CFR part 63, subpart A and any changes, or additions to the General Provisions specified at 40 CFR part 63, subpart YYYY.

Burden Statement: The following data has been extracted from the currently active ICR. The annual public reporting and recordkeeping burden for this collection of information is estimated to average 10 hours per response.

Respondents/Affected Entities: Stationary gas turbines.

Estimated Number of Respondents: 132.

Frequency of Response: Semiannual.

Estimated Total Annual Hour Burden: 2,448.

Estimated Total Annual Cost: $8,000, all of which are annualized capital/startup costs. There are no O&M costs associated with this ICR.

(10) NESHAP for Metal Can Manufacturing Surface Coating (40 CFR Part 63, Subpart KKKK); EPA-HQ-OECA-2006-0738; EPA ICR Number 2079.03, OMB Control Number 2060-0541; expiration date June 30, 2007.

Affected Entities: Entities potentially affected by this action are metal can manufacturing surface coating facilities.

Abstract: The National Emission Standards for Hazardous Air Pollutants (NESHAP) for Metal Can Manufacturing Surface Coating were promulgated on November 13, 2003. The affected entities are subject to the General Provisions of the NESHAP at 40 CFR part 63, subpart A and any changes, or additions to the General Provisions specified at 40 CFR part 63, subpart KKKK.

Burden Statement: The following data has been extracted from the currently active ICR. The annual public reporting and recordkeeping burden for this collection of information is estimated to average 28 hours per response.

Respondents/Affected Entities: Metal can manufacturing surface coating facilities.

Estimated Number of Respondents: 142.

Frequency of Response: Initially, on-occasion and semiannually.

Estimated Total Annual Hour Burden: 7,815.

Estimated Total Annual Cost: $1,732,000, includes $1,731,000 annualized capital/startup and $1,000 of annualized O&M costs.

(11) NESHAP for Mineral Wool Production (40 CFR Part 63, Subpart DDD); Docket ID Number EPA-HQ-OECA-2006-0721, EPA ICR Number 1799.04; OMB Control Number 2060-0362; expiration date June 30, 2007.

Affected Entities: Entities potentially affected by this action are mineral wool production facilities.

Abstract: The National Emission Standards for Hazardous Air Pollutants (NESHAP) for Mineral Wool Production (40 CFR Part 63, Subpart DDD) were proposed on May 8, 1997 and promulgated on June 1, 1999. The affected entities are subject to the General Provisions of the NESHAP at 40 CFR part 63, subpart A and any changes or additions to the General Provisions specified at 40 CFR part 63, subpart DDD.

Burden Statement: The following data has been extracted from the currently active ICR. The annual public reporting and recordkeeping burden for this collection of information is estimated to average 126 hours per response.

Respondents/Affected Entities: Mineral wool production facilities.

Estimated Number of Respondents: 12.

Frequency of Response: Initially and semiannually.

Estimated Total Annual Hour Burden: 3,018.

Estimated Total Annual Cost: $9,000, which is comprised of no annualized capital/startup costs and O&M costs of $9,000.

(12) NESHAP for Chromium Emissions From Hard and Decorative Chromium Electroplating and Chromium Anodizing Tanks (40 CFR Part 63, Subpart N, Docket ID Number EPA-HQ-OECA-2006-0749, EPA ICR Number 1611.06, OMB Control Number 2060-0327, expiration date June 30, 2007.

Affected Entities: Entities potentially affected by this action are chromium electroplating facilities.

Abstract: The national emission standards for hazardous air pollutants (NESHAP) for Chromium Emissions From Hard and Decorative Chromium Electroplating and Chromium Anodizing Tanks at 40 CFR part 63, subpart R, were proposed on December 16, 1993 and promulgated on January 25, 1995. The affected entities are subject to the General Provisions of the NESHAP at 40 CFR part 63, subpart A and any changes, or additions to the General Provisions specified at 40 CFR part 63, subpart N.

Burden Statement: The following data has been extracted from the currently active ICR. The annual public reporting and recordkeeping burden for this collection of information is estimated to average 83 hours per response.

Respondents/Affected Entities: Chromium electroplating facilities.

Estimated Number of Respondents: 5,020.

Frequency of Response: Initially, semiannually, and annually.

Estimated Total Annual Hour Burden: 495,774 hours.

Estimated Total Annual Costs: $75,300,000 which is comprised of only annual O&M costs. There are no annualized capital/startup costs associated with this ICR.

(13) NESHAP for Wood Furniture Manufacturing Operations (40 CFR Part 63, Subpart JJ); Docket ID Number EPA-HQ-OECA-2006-0722, EPA ICR Number 1716.05; OMB Control Number 2060-0324; expiration date June 30, 2007.

Affected Entities: Entities potentially affected by this action are wood furniture manufacturers.

Abstract: The National Emission Standards for Hazardous Air Pollutants (NESHAP) for Wood Furniture Manufacturing Operations (40 CFR Part 63, Subpart JJ) were proposed on December 6, 1994 and promulgated on December 7, 1995. The affected entities are subject to the General Provisions of the NESHAP at 40 CFR part 63, subpart A and any changes or additions to the General Provisions specified at 40 CFR part 63, subpart JJ.

Burden Statement: The following data has been extracted from the currently active ICR. The annual public reporting and recordkeeping burden for this collection of information is estimated to average 45 hours per response.

Respondents/Affected Entities: Wood furniture manufacturers.

Estimated Number of Respondents: 750.

Frequency of Response: Initially, quarterly, and semiannually.

Estimated Total Annual Hour Burden: 47,190.

Estimated Total Annual Cost: $18,000, which is comprised of no annualized capital/startup costs and O&M costs of $18,000.

(14) NESHAP for Commercial Ethylene Oxide Sterilization and Fumigation Operations (40 CFR Part 63, Subpart O); Docket ID Number EPA-HQ-OECA-2006-0723, EPA ICR Number 1666.07; OMB Control Number 2060-0283; expiration date June 30, 2007.

Affected Entities: Entities potentially affected by this action are commercial ethylene oxide sterilization and fumigation operations.

Affected Entities: Entities potentially affected by this action are commercial ethylene oxide sterilization and fumigation facilities.

Abstract: The National Emission Standards for Hazardous Air Pollutants (NESHAP) for Commercial Ethylene Oxide Sterilization and Fumigation Operations (40 CFR Part 63, Subpart O) were proposed on March 7, 1994 and promulgated on December 6, 1994. The affected entities are subject to the General Provisions of the NESHAP at 40 CFR part 63, subpart A and any changes or additions to the General Provisions specified at 40 CFR part 63, subpart O.

Burden Statement: The following data has been extracted from the currently active ICR. The annual public reporting and recordkeeping burden for this collection of information is estimated to average 37 hours per response.

Respondents/Affected Entities: Commercial ethylene oxide sterilization and fumigation facilities.

Estimated Number of Respondents: 119.

Frequency of Response: Initially and semiannually.

Estimated Total Annual Hour Burden: 8,662.

Estimated Total Annual Cost: $648,000, which is comprised of annualized capital/startup costs of $65,000 and O&M costs of $583,000.

(15) NSPS for Secondary Brass and Bronze Production, Primary Copper Smelters, Primary Zinc Smelters, Primary Lead Smelters, Primary Aluminum Reduction Plants and Ferroalloy Production Facilities (40 CFR Part 60, Subparts M, P, Q, R, S and Z); Docket ID Number EPA-HQ-OECA-2006-0706; EPA ICR Number 1604.08, OMB Control Number 2060-0110, expiration date July 31, 2007.

Affected Entities: Entities potentially affected by this action are secondary brass and bronze production facilities, primary copper/Zinc/Lead Smelters, primary aluminum reduction plants and ferroalloy production facilities.

Abstract: 40 CFR part 60, subpart M, was proposed on June 11, 1973, promulgated on March 8, 1974, and amended most recently on February 14, 1989. 40 CFR part 60, subpart P, was proposed on October 16, 1974, and promulgated on January 15, 1976. 40 CFR part 60, subpart Q, was proposed on October 16, 1974, and promulgated on January 15, 1976. 40 CFR part 60, subpart R, was proposed on October 16, 1974, and promulgated on January 15, 1976. 40 CFR part 60, subpart S, was proposed on October 23, 1974, promulgated on July 25, 1977, and amended most recently on February 14, 1989. 40 CFR part 60, subpart Z, was proposed on October 21, 1974, promulgated on July 25, 1977, and amended most recently on February 14, 1990. The affected entities are subject to the General Provisions of the NSPS at 40 CFR part 60, subpart A and any changes, or additions to the General Provisions specified 40 CFR part 60, subparts M, P, Q, R, S and Z.

Burden Statement: The following data has been extracted from the currently active ICR. The annual public reporting and recordkeeping burden for this collection of information is estimated to average 170 hours per response.

Respondents/Affected Entities: Secondary brass and bronze production facilities, primary copper/Zinc/Lead Smelters, primary aluminum reduction plants and ferroalloy production facilities.

Estimated Number of Respondents: 18.

Frequency of Response: Initially and Semiannually.

Estimated Total Annual Hour Burden: 4,914.

Estimated Total Annual Cost: $132,000 which is comprised of no annualized capital/startup costs and O&M costs of $132,000.

(16) NSPS for New Residential Wood Heaters (40 CFR Part 60, Subpart AAA) OMB Control Number 2060-0161; Docket ID Number EPA-HQ-OECA-2006-0770; EPA ICR Number 1176.08; OMB Control Number 2060-0161; expiration date July, 31, 2007.

Affected Entities: Entities potentially affected by this action are new residential wood heaters.

Abstract: The Standards of Performance for New Stationary Sources, New Residential Wood Heaters, were proposed on February 18, 1987, promulgated on February 26, 1988, and are found at 40 CFR part 60, subpart AAA. The standards apply to each wood heater manufactured on or after July 1, 1988, or sold at retail on or after July 1, 1990. Wood heaters manufactured on or after July 1, 1990, or sold at retail on or after July 1, 1992, must meet more stringent emission standards. Two features of this rulemaking are unique to the New Source Performance Standard (NSPS) program. First, these standards were negotiated by representatives of groups affected by the NSPS, including those groups which are burdened by the information collection activities. Second, these regulations established a certification program instead of the usual NSPS requirement that each affected facility demonstrates compliance through new source review and testing. Under this certification program, a single wood heater is tested to demonstrate compliance for an entire model line. The certification approach significantly reduces the compliance burden, including information collection, for the manufacturers of wood heaters.

Wood heater manufacturers, testing laboratories, and retailers are required to submit reports and/or to maintain records that demonstrate compliance.

Burden Statement: The following data has been extracted from the currently active ICR. The annual public reporting and recordkeeping burden for this collection of information is estimated to average 51 hours per response.

Respondents/Affected Entities: Manufacturers and sellers of new residential wood stoves.

Estimated Number of Respondents: 934.

Frequency of Response: On-occasion.

Estimated Total Annual Hour Burden: 9,728.

Estimated Total Annual Cost: $3,000 which includes no capital/startup costs and $3,000 in O&M costs.

(17) NESHAP for Boat Manufacturing (40 CFR Part 63, Subpart VVVV); Docket ID Number EPA-HQ-OECA-2006-0724, EPA ICR Number 1966.03; OMB Control Number 2060-0546; expiration date July 31, 2007.

Affected Entities: Entities potentially affected by this action are boat manufacturers.

Abstract: The National Emission Standards for Hazardous Air Pollutants (NESHAP) for Boat Manufacturing (40 CFR Part 63, Subpart VVVV) were proposed on July 14, 2000 and promulgated on August 22, 2001. The affected entities are subject to the General Provisions of the NESHAP at 40 CFR part 63, subpart A and any changes or additions to the General Provisions specified at 40 CFR part 63, subpart VVVV.

Burden Statement: The following data has been extracted from the currently active ICR. The annual public reporting and recordkeeping burden for this collection of information is estimated to average 230 hours per response.

Respondents/Affected Entities: Boat manufacturers.

Estimated Number of Respondents: 45.

Frequency of Response: Initially, quarterly, and semiannually.

Estimated Total Annual Hour Burden: 10,343.

Estimated Total Annual Cost: There are no annualized capital/startup costs or O&M costs associated with this ICR.

(18) NESHAP for Automobile and Light-duty Truck Surface Coating (40 CFR Part 63, Subpart IIII); EPA-HQ-OECA-2006-0736; EPA ICR Number 2045.03; OMB Control Number 2060-0550; expiration date August 31, 2007.

Affected Entities: Entities potentially affected by this action are owners and operators of automobile and light-duty truck surface coating facilities.

Abstract: The National Emission Standards for Hazardous Air Pollutants (NESHAP) for Automobile and Light-duty Truck Surface Coating were promulgated on April 26, 2004. The affected entities are subject to the General Provisions of the NESHAP at 40 CFR part 63, subpart A and any changes, or additions to the General Provisions specified at 40 CFR part 63, subpart III.

Burden Statement: The following data has been extracted from the currently active ICR. The annual public reporting and recordkeeping burden for this collection of information is estimated to average 115 hours per response.

Respondents/Affected Entities: Automobile and light-duty truck surface coating facilities.

Estimated Number of Respondents: 65.

Frequency of Response: Initially, on-occasion and semiannually.

Estimated Total Annual Hour Burden: 33,437.

Estimated Total Annual Cost: $7,000, includes no annualized capital/startup and $7,000 of annualized O&M costs.

(19) NESHAP for Industrial, Commercial, and Institutional Boilers and Process Heaters (40 CFR Part 63, Subpart DDDDD), Docket ID Number EPA-HQ-OECA-2006-0778, EPA ICR Number 2028.03, OMB Control Number 2060-0551, expiration date August 31, 2007.

Affected Entities: Entities potentially affected by this action are owners or operators of boilers and process heaters located at major sources of hazardous air pollutants.

Abstract: The National Emission Standards for Hazardous Air Pollutants (NESHAP) for boilers and process heaters were promulgated September 13, 2004. The affected entities are subject to the General Provisions of the NESHAP at 40 CFR part 63, subpart A and any changes, or additions to the General Provisions specified at 40 CFR part 63, subpart DDDDD.

Burden Statement: The following data has been extracted from the currently active ICR. The annual public reporting and recordkeeping burden for this collection of information is estimated to average 64 hours per response.

Respondents/Affected Entities: Owners or operators of boilers and process heaters.

Estimated Number of Respondents: 18,788.

Frequency of Response: Initially and semiannually.

Estimated Total Annual Hour Burden: 1,201,746.

Estimated Total Annual Cost: $23,504,000, all of which are capital/startup costs. There are no O&M costs associated with this ICR.

(20) NESHAP for Plywood and Composite Products (40 CFR Parts 63, Subparts DDDD and 429); Docket ID Number EPA-HQ-OECA-2006-0725, EPA ICR Number 1984.03; OMB Control Number 2060-0552; expiration date August June 31, 2007.

Affected Entities: Entities potentially affected by this action are plywood and composite product manufacturers.

Abstract: The National Emission Standards for Hazardous Air Pollutants (NESHAP) for Plywood and Composite Products (40 CFR Part 63, Subparts DDDD and 429) were proposed on January 1, 2003 and promulgated on July 30, 2004. The affected entities are subject to the General Provisions of the NESHAP at 40 CFR part 63, subpart A and any changes or additions to the General Provisions specified at 40 CFR parts 63, subparts DDDD and 429.

Burden Statement: The following data has been extracted from the currently active ICR. The annual public reporting and recordkeeping burden for this collection of information is estimated to average 24 hours per response.

Respondents/Affected Entities: Plywood and composite product manufacturers.

Estimated Number of Respondents: 220.

Frequency of Response: Initially and semiannually.

Estimated Total Annual Hour Burden: 4,692.

Estimated Total Annual Cost: $36,000, which is comprised of annualized capital/startup costs of $31,000 and O&M costs of $5,000.

(21) NSPS for Stationary Gas Turbines (40 CFR Part 60, Subpart GG), Docket ID Number EPA-HQ-OECA-2006-0775, EPA ICR Number 1071.09, OMB Control Number 2060-0028, expiration date August 31, 2007.

Affected Entities: Entities potentially affected by this action are the owners or operators of stationary gas turbines.

Abstract: The New Source Performance Standards (NSPS) for stationary Gas turbines were promulgated on September 10, 1979. The affected entities are subject to the General Provisions of the NSPS at 40 CFR part 60, subpart A and any changes, or additions to the General Provisions specified at 40 CFR part 60, subpart GG.

Burden Statement: The following data has been extracted from the currently active ICR. The annual public reporting and recordkeeping burden for this collection of information is estimated to average 56 hours per response.

Respondents/Affected Entities: Owners or operators of stationary gas turbines.

Estimated Number of Respondents: 535.

Frequency of Response: Semiannual.

Estimated Total Annual Hour Burden: 59,519.

Estimated Total Annual Cost: There are no capital/startup or O&M costs associated with this ICR.

(22) NESHAP for Petroleum Refineries, Catalytic Cracking, Reforming and Sulfur Units (40 CFR Part 63, Subpart UUU), Docket ID Number EPA-HQ-OECA-2006-0752, EPA ICR Number 1844.02, OMB Control Number 2060-0554, expiration date August 31, 2007.

Affected Entities: Entities potentially affected by this action are petroleum refinery fluid catalytic cracking unit catalyst regeneration, catalytic reforming unit catalyst regeneration, and sulfur recovery units.

Abstract: The National Emission Standards for Hazardous Air Pollutants (NESHAP), for the regulations published at 40 CFR part 63, subpart UUU, were proposed on September 11, 1998, promulgated on April 11, 2002, and amended on February 09, 2005. The affected entities are subject to the General Provisions of NESHAP at 40 CFR part 63, subpart A and any changes, or additions to the General Provisions specified at 40 CFR part 63, subpart UUU.

Burden Statement: The following data has been extracted from the currently active ICR. The annual public reporting and recordkeeping burden for this collection of information is estimated to average 96 hours per response.

Respondents/Affected Entities: Petroleum refinery fluid catalytic cracking unit catalyst regeneration, catalytic reforming unit catalyst regeneration, and sulfur recovery units

Estimated Number of Respondents: 132.

Frequency of Response: Semiannually.

Estimated Total Annual Hour Burden: 12,667.

Estimated Total Annual Cost: $4,606,000 which is comprised of annualized capital/startup costs of $1,126,000 and O&M costs of $3,480,000.

(23) NESHAP for Stationary Reciprocating Internal Combustion Engines (40 CFR Part 63, Subpart ZZZZ), Docket ID Number EPA-HQ-OECA-2006-0777, EPA ICR Number 1975.03, OMB Control Number 2060-0548, expiration date August 31, 2007.

Affected Entities: Entities potentially affected by this action are the owners or operators of stationary reciprocating internal combustion engines.

Abstract: The National Emission Standards for Hazardous Air Pollutants (NESHAP) for stationary reciprocating internal combustion engines were promulgated June 15, 2004. The affected entities are subject to the General Provisions of NESHAP at 40 CFR part 63, subpart A and any changes, or additions to the General Provisions specified at 40 CFR part 63, subpart ZZZZ.

Burden Statement: The following data has been extracted from the currently active ICR. The annual public reporting and recordkeeping burden for this collection of information is estimated to average 21 hours per response.

Respondents/Affected Entities: Reciprocating internal combustion engines.

Estimated Number of Respondents: 514.

Frequency of Response: Semiannual.

Estimated Total Annual Hour Burden: 141,984.

Estimated Total Annual Cost: $2,973,000, which is comprised of annualized capital/startup costs of $1,767,000 and O&M costs of $1,206,000.

(24) NSPS for Sewage Sludge Treatment Plants (40 CFR Part 60, Subpart O); Docket ID Number EPA-HQ-OECA-2006-0711; EPA ICR Number 1063.10; OMB Control Number 2060-0035; expiration date September 31, 2007.

Affected Entities: Entities potentially affected by this action are sewage sludge treatment plants.

Abstract: The New Source Performance Standards (NSPS) for Sewage Sludge Treatment Plants (40 CFR Part 60, Subpart O) industry were promulgated on November 10, 1977. The affected entities are subject to the General Provisions of the NSPS at 40 CFR part 60, subpart A and any changes, or additions to the General Provisions specified 40 CFR part 60, subpart O.

Burden Statement: The following data has been extracted from the currently active ICR. The annual public reporting and recordkeeping burden for this collection of information is estimated to average 35 hours per response.

Respondents/Affected Entities: Sewage Sludge Treatment Plants.

Estimated Number of Respondents: 54.

Frequency of Response: Initially and Semiannually.

Estimated Total Annual Hour Burden: 6,214.

Estimated Total Annual Cost: $1,990,000 which is comprised of annualized capital/startup costs of $100,000 and O&M costs of $1,890,000.

(25) Air Emissions Standards for Tanks, Surface Impoundments and Containers (40 CFR Part 264, Subpart CC and 40 CFR Part 265, Subpart 265); Docket ID Number EPA-HQ-OECA-2006-0705; EPA ICR Number 1593.07; OMB Control Number 2060-0318; expiration date September 31, 2007.

Affected Entities: Entities potentially affected by this action are sewage tanks, surface impoundments and containers.

Abstract: The Air Emissions Standards for Tanks, Surface Impoundments and Containers (40 CFR Part 264, Subpart CC and 40 CFR Part 265, Subpart 265) industry were promulgated on December 6, 1994. The affected entities are subject to the General Provisions of the NSPS at 40 CFR part 60, subpart A and any changes, or additions to the General Provisions specified at 40 CFR part 264, subpart CC and 40 CFR part 265, subpart 265.

Burden Statement: The following data has been extracted from the currently active ICR. The annual public reporting and recordkeeping burden for this collection of information is estimated to average 114 hours per response.

Respondents/Affected Entities: Tanks, Surface Impoundments and Containers.

Estimated Number of Respondents: 6,209.

Frequency of Response: On-occasion and Semiannually.

Estimated Total Annual Hour Burden: 711,477.

Estimated Total Annual Cost: $12,418,000 which is comprised of no annualized capital/startup costs and O&M costs of $12,418,000.

(26) NESHAP for Aerospace Manufacturing and Rework (40 CFR Part 63, Subpart GG); Docket ID Number EPA-HQ-OECA-2006-0726, EPA ICR Number 1687.07; OMB Control Number 2060-0314; expiration date August September 30, 2007.

Affected Entities: Entities potentially affected by this action are aerospace manufacturing and rework facilities.

Abstract: The National Emission Standards for Hazardous Air Pollutants (NESHAP) for Aerospace Manufacturing and Rework (40 CFR Part 63, Subpart GG) were proposed on June 6, 1994 and promulgated on September 1, 1995. The affected entities are subject to the General Provisions of the NESHAP at 40 CFR part 63, subpart A and any changes or additions to the General Provisions specified at 40 CFR part 63, subpart GG.

Burden Statement: The following data has been extracted from the currently active ICR. The annual public reporting and recordkeeping burden for this collection of information is estimated to average 260 hours per response.

Respondents/Affected Entities: Aerospace manufacturing and rework facilities.

Estimated Number of Respondents: 136.

Frequency of Response: Initially, on-occasion, quarterly, and semiannually.

Estimated Total Annual Hour Burden: 141,645.

Estimated Total Annual Cost: $136,000, which is comprised of no annualized capital/startup costs and O&M costs of $136,000.

(27) NSPS for Incinerators (40 CFR Part 60, Subpart E); Docket ID Number EPA-HQ-OECA-2006-0709; EPA ICR Number 1058.09; OMB Control Number 2060-0040; expiration date September 31, 2007.

Affected Entities: Entities potentially affected by this action are incinerators.

Abstract: The New Source Performance Standards (NSPS) for Incinerators (40 CFR Part 60, Subpart E) were promulgated on July 25, 1977. The affected entities are subject to the General Provisions of the NSPS at 40 CFR part 60, subpart A and any changes, or additions to the General Provisions specified at 40 CFR part 60, subpart E.

Burden Statement: The following data has been extracted from the currently active ICR. The annual public reporting and recordkeeping burden for this collection of information is estimated to average 51 hours per response.

Respondents/Affected Entities: Incinerators.

Estimated Number of Respondents: 82.

Frequency of Response: Initially.

Estimated Total Annual Hour Burden: 8,393.

Estimated Total Annual Cost: $205,000 which is comprised of no annualized capital/startup costs and O&M costs of $205,000.

(28) NSPS for the Graphic Arts Industry (40 CFR Part 60, Subpart QQ); Docket ID Number EPA-HQ-OECA-0707; EPA ICR Number 0657.09; OMB Control Number 2060-0105; expiration date September 31, 2007.

Affected Entities: Entities potentially affected by this action are graphic arts facilities.

Abstract: The New Source Performance Standards (NSPS) for the Graphic Arts Industry (40 CFR Part 60, Subpart QQ) were promulgated on November 8, 1982. The affected entities are subject to the General Provisions of the NSPS at 40 CFR part 60, subpart A and any changes, or additions to the General Provisions specified at 40 CFR part 60, subpart QQ.

Burden Statement: The following data has been extracted from the currently active ICR. The annual public reporting and recordkeeping burden for this collection of information is estimated to average 37 hours per response.

Respondents/Affected Entities: Graphic Arts Industry.

Estimated Number of Respondents: 19.

Frequency of Response: Initially and Semiannually.

Estimated Total Annual Hour Burden: 1,718.

Estimated Total Annual Cost: There are no annualized capital/startup costs or O&M costs associated with this ICR.

EPA will consider any comments received and may amend any of the above ICRs, as appropriate. Then, the final ICR packages will be submitted to OMB for review and approval pursuant to 5 CFR 1320.12. At that time, EPA will issue one or more Federal Register notices pursuant to 5 CFR 1320.5(a)(1)(iv) to announce the submission of the ICR(s) to OMB and the opportunity to submit additional comments to OMB. If you have any questions about any of the above ICRs or the approval process, please contact the person listed under FOR FURTHER INFORMATION CONTACT.

Dated: September 19, 2006.
Michael M. Stahl,
Director, Office of Compliance.

[FR Doc. E6-16525 Filed 10-4-06; 8:45 am]

BILLING CODE 6560-50-P